DEPARTMENT OF DEFENSE

Department of the Army

[Docket ID: USA-2011-0021]

Privacy Act of 1974; System of Records

AGENCY: Department of the Army, Department of Defense (DoD).

ACTION: Notice to Add a System of Records.

SUMMARY: The Department of the Army proposes to add a system of records to its inventory of record systems subject to the Privacy Act of 1974 (5 U.S.C. 552a), as amended.

DATES: This proposed action would be effective without further notice on October 3, 2011 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Leroy Jones, Department of the Army, Privacy Office, U.S. Army Records Management and Declassification Agency, 7701 Telegraph Road, Casey Building, Suite 144, Alexandria, VA 22325-3905, or by phone at (703) 428-6185.

SUPPLEMENTARY INFORMATION: The Department of the Army notices for systems of records subject to the Privacy Act of 1974 (5 U.S.C. 552a), as amended, have been published in the Federal Register and are available from the address in FOR FURTHER INFORMATION CONTACT.

The proposed system report, as required by 5 U.S.C. 552a(r) of the Privacy Act of 1974, as amended, was submitted on August 3, 2011 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 29, 2011.
Aaron Siegel,
Alternate OSD Federal Register Liaison Officer, Department of Defense.

A0 025-400-2 OAA

System name:

Army Records Information Management System (ARIMS).

System location:

Records Management Declassification Agency (RMDA), 7701 Telegraph Road, Casey Building, Room 146A, Alexandria, VA 22315-3860.

Categories of individuals covered by the system:

Active U.S. Army, U.S. Air Force, U.S. Navy, U.S. Marine Corp, and U.S. Coast Guard, Army retired, contractors employed by the Army, Department of Defense civilians employed by the Army, Air Force, Navy, Marine Corp, and Coast Guard, newly assigned Department of Army civilian, Department of Army retired civilians, active and retired military family members verified in the Defense Eligibility Enrollment Reporting System (DEERS), active foreign officers (Non-US Military Officers), Homeland Security employees, Initial Entry Recruits, Individual Ready Reserve, Department of the Army Non-Appropriated Funds civilians, Army National Guard, Army National Guard retired personnel, Army Reserve and United States Military Academy (USMA) cadets who register for access and provide records for retention in the system and individuals who are the subject of records in the system.

Categories of records in the system:

The system encompasses a variety of records pertaining to all Army and DoD functionality; individual name, Social Security Number (SSN), DoD ID Number, address; user account information that contains data such as names, usernames, unit assignments, locations, office symbols, telephone numbers, e-mail addresses, and user roles; and also including information in the following categories:

Personnel:

Records concern military and Army civilian personnel as they relate to general personnel data of member, his or her dependents, such as insurance, voting, citizenship, and handling responsibility for personal property. Records concerning methods and procedures for identifying skills and abilities of military personnel, testing, and awarding military occupational specialties for use in assignment to related duties and jobs.

Records for the processing of military personnel upon entry into the service, in a training or temporarily unassigned status, upon assignment overseas and return, and for separation from the service. Also covered are records on appointment of officer personnel, enlistment and re-enlistment of enlisted personnel, recruiting activities, and other matters relating to the entry of military personnel into the Army.

Installation Management and Field Organization:

Records concerning administrative and management functions pertaining to installations and responsibilities of installation commanders. Subject functional areas include activation and inactivation, site and master planning, quarters and housing, commercial solicitation, financial institutions, sales of products and services, and similar functions applicable at the installation level not specifically provided for in other series. Also covered are organization, mission, responsibilities, duties, and functions of Department of Defense, Headquarters, Department of the Army, Department of the Army agencies, major commands, and other commands, units, and organizations.

Security:

Records concerning identification, classification, downgrading, declassification, dissemination, and protection of defense information, storage and destruction of classified matter, industrial security, investigations involving compromise of classified information, access to classified data, and other matters pertaining to security; records covering the protection and preservation of the military, economic, and productive strength of the United States, including the security of the Government in domestic and foreign affairs and records concerning responsibilities, policies, functions, and procedures pertaining to security assistance.

Information Management:

Records concerning planning, policies, procedures, architectures, and responsibilities pertaining to information management; life cycle management of information systems; and records pertaining to all five Information Mission Area disciplines (communications, automation, records management, visual information, and publications and printing); records concerning policy, direction, planning, testing, and operation of communications and electronics systems, such as radio, telephone, teletypewriter, and radar.

Medical Services:

Composition, mission, responsibilities and functions of the Army Medical Department and its related corps, administration and operation of Army medical treatment facilities, medical, dental, and veterinary care, and medical, dental, and veterinary equipment and supplies.

Logistics:

These records concern logistics policies, procedures, and support covering supplies, equipment, and facilities in several different logistical areas.

Administration:

Administrative functions, such as control of office space, visits, attendance at meetings and conferences, gifts and donations, memorialization proceedings, and other support functions not specifically provided for in other series.

Emergency and Safety:

Actions involved in preparing for war or emergencies; bringing the Army to a state of readiness; and assembling and organizing personnel, supplies, and other resources for active military service. Army participation and support in matters of civil disturbance, disaster relief, and civil defense and emergency action; records concern administration of the Army safety program, which is directed toward accident prevention Army-wide. Program responsibilities include conducting studies and surveys to determine unsafe practices and conditions. Also covers records on nuclear accidents and incidents.

Legal Services:

Judiciary boards and proceedings, decisions, opinions, and policies applicable to civil law and military affairs, international, foreign, procurement, and contract law, legal assistance for military personnel and their dependents, policies and procedures relative to patents, inventions, taxation, and land litigation involving the Army, trials by courts-martial, including pretrial, trial, and post trial procedures, nonjudicial punishment, investigation, processing, settlement, and payment of claims against or on behalf of the Government when the Army is involved.

Financial Audit:

Policies, procedures, direction, and supervision of financial functions, including budgeting, accounting, funding, entitlement, pay, expenditures, Army Management Structure and fiscal code, and related reporting. Records concerning authority, responsibilities, organization, and policies relating to auditing service in the Department of the Army, action requested on United States Army Audit Agency reports, and audit procedures for non-appropriated and similar funds.

Quality Assurance and Quality Control:

Army environmental management records, including programs, policies, instructions, and activities; matters affecting the quality of the environment, such as impact on the atmosphere, natural resources, water, and the community.

Authority for maintenance of the system:

10 U.S.C. 3013, Secretary of the Army; 44 U.S.C. Sections 3301-3314, the Federal Records Act; Executive Order 13526—Classified National Security Information Memorandum of December 29, 2009—Implementation of the E.O. `Classified National Security Information' Order of December 29, 2009—Original Classification Authority; DoDD 5015.2, DoD Records Management Program; Army Regulation 25-400-2, The Army Records Information Management System; and E.O. 9397 (SSN), as amended.

Purpose(s):

The Department of the Army is proposing to establish a new system of records that will be used to manage and archive long-term and permanent records providing core information technology to records management support programs (Freedom of Information Act, Privacy Act, Component Programs, Combat Records Research, and declassification review of classified, permanent, historical Army records 25 years old or older, as well as manage the joint review of DoD equities in the Joint Referral Center (JRC).

Routine uses of records maintained in the system, including categories of users and the purpose of such uses:

In addition to those disclosures generally permitted under 5 U.S.C. 552a(b) of the Privacy Act of 1974, these records contained therein may specifically be disclosed outside the DOD as a routine use pursuant to 5 U.S.C. 552a(b)(3) as follows:

The DoD `Blanket Routine Uses' set forth at the beginning of the Army's compilation of systems of records notice also apply to this system.

To the Department of Veterans Affairs to verify military service for claims filed by the veteran.

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Policies and practices for storing, retrieving, accessing, retaining and disposing of records in the system:

Storage:

Electronic storage media and hard copy records.

Retrievability:

By name of individual, Social Security Number (SSN), subject matter, or title of record.

Safeguards:

Electronically and optically stored records are maintained in fail-safe system software with password-protected access. Indexes of hard copy records are stored in records holding areas Army wide. Records are accessible only to authorized persons with a need-to-know who are properly screened, cleared and trained. The system maintains data encryption, role based access, Common Access Card access, and authentication through the Army Knowledge Online Portal through secure socket protocols.

Retention and disposal:

Records will be retained in accordance with their respective disposition schedule and will be destroyed or permanently accessioned to the National Archives when no longer needed for reference and/or for conducting business. Records are destroyed by erasing, purging, shredding or burning.

Systems Managers(s) and Address:

ARIMS Systems Managers, Records Management and Declassification Agency, 7701 Telegraph Road, Casey Building, Room 102, Alexandria, VA 22315-3860.

Notification procedures:

Individuals seeking to determine whether information about themselves is contained in this system should address written inquiries to the System Manager, Records Management and Declassification Agency, 7701 Telegraph Road, Casey Building, Room 102, Alexandria, VA 22315-3860.

For verification purpose, individual should provide full name, any details which may assist in locating records and their signature. The individual should also reasonably specify the record contents being sought.

In addition, the requester must provide a notarized statement or an unsworn declaration made in accordance with 28 U.S.C. 1746, in the following format:

If executed outside the United States:

“I declare (or certify, verify, or state) under penalty of perjury under the laws of the United State of America that the foregoing is true and correct. Executed on (date). (Signature)’.

If executed within the United States, its territories, possessions, or commonwealths: `I declare (or certify, verify, or state) under penalty of perjury that the foregoing in true and correct. Executed on (date). (Signature)'.

Record access procedures:

Individuals seeking access to information about themselves contained in this system should address written inquiries to the Systems Managers, Records Management and Declassification Agency, 7701 Telegraph Road, Casey Building, Alexandria, VA 22315-3860.

For verification purpose, individual should provide full name, any details which may assist in locating records and their signature. The individual should also reasonably specify the record contents being sought.

In addition, the requester must provide a notarized statement or declaration made in accordance with 28 U.S.C. following format:

If executed outside the United States:

‘I declare (or certify, verify, or state) under penalty of perjury under the laws of the United States of America that the foregoing is true and correct. Executed on (date). (Signature)’.

If executed within the United States, its territories, possessions, or commonwealths: ‘I declare (or certify, verify, or state) under penalty of perjury that the foregoing is true and correct. Executed on (date). (Signature)’.

Contesting record procedures:

The Army's rules for accessing records and for contesting contents and appealing agency determinations are contained in Army Regulation 340-21; 32 CFR part 505; or may be obtained from the system manager.

Records Source Categories:

Information is obtained from individuals, Department of Veterans Affairs, and other Federal, state and local agencies.

Exemptions claimed for the system:

During the course of records management, declassification and claims research, exempt materials from ‘other’ systems of records in turn may become part of the case records in this system. To the extent that copies of exempt records from those ‘other’ systems of records are entered into this system, the Department of the Army hereby claims the same exemptions for the records from those ‘other’ systems that are entered into this system, as claimed for the original primary systems of records which they are a part.

An exemption rule for this system has been promulgated in accordance with requirements of 5 U.S.C. 553(b)(1), (2), and (3), (c) and (e) and published in 36 CFR, Chapter XII, Subchapter B. For additional information contact the system manager.

[FR Doc. 2011-22467 Filed 9-1-11; 8:45 am]

BILLING CODE 5001-06-P